DEPARTMENT OF JUSTICE

Antitrust Division

Notice Pursuant to the National Cooperative Research and Production Act of 1993—Information Card Foundation

Notice is hereby given that, on October 20, 2008, pursuant to Section 6(a) of the National Cooperative Research and Production Act of 1993, 15 U.S.C. 4301 et seq. (“the Act”), Information Card Foundation has filed written notifications simultaneously with the Attorney General and the Federal Trade Commission disclosing changes in its membership. The notifications were filed for the purpose of extending the Act's provisions limiting the recovery of antitrust plaintiffs to actual damages under specified circumstances. Specifically, Microsoft, Redmond, WA; WSO2, Mountain View, CA; Novell, Waltham, MA; CORISECIO, Darmstadt, GERMANY; Figlo, Capell a/d Yssel, THE NETHERLANDS; Crypto-Pro, Moscow, RUSSIA; Eduserv, Bath, UNITED KINGDOM; Oracle, Sunnyvale, CA; ETRI, Seoul, REPUBLIC OF KOREA; Arcot Systems, Sunnyvale, CA; Anders Rundgren, Almunge, SWEDEN; Deutsche Telekom, Berlin, GERMANY; Christopher Reynolds (individual member), Wayland, MA; Intel, Hillsboro, OR and Steve Holcombe (individual member), Stillwater, OK have been added as parties to this venture.

No other changes have been made in either the membership or planned activity of the group research project. Membership in this group research project remains open, and Information Card Foundation intends to file additional written notifications disclosing all changes in membership.

On June 2, 2008, Information Card Foundation filed its original notification pursuant to Section 6(a) of the Act. The Department of Justice published a notice in the Federal Register pursuant to Section 6(b) of the Act on July 16, 2008 (73 FR 40883).

The last notification was filed with the Department on August 18, 2008. A notice was published in the Federal Register pursuant to Section 6(b) of the Act on September 18, 2008 (73 FR 54169).

Patricia A. Brink,
Deputy Director of Operations, Antitrust Division.

[FR Doc. E8-27512 Filed 11-20-08; 8:45 am]

BILLING CODE 4410-11-M